DEPARTMENT OF STATE

[Public Notice 4730]

Determination Related to the Participation of the Magen David Adom Society of Israel in the Activities of the International Red Cross and Red Crescent Movement

Pursuant to the requirements contained in the Kenneth M. Ludden Foreign Operations, Export Financing, and Related Programs Appropriations Act, 2002 (Public Law 107-115), under the heading of Migration and Refugee Assistance, I hereby determine that the Magen David Adom Society of Israel is not being denied participation in the activities of the International Red Cross and Red Crescent Movement.

This Determination shall be published in the Federal Register, and copies shall be provided to the appropriate committees of the Congress.

Dated: May 5, 2002.
Colin L. Powell,
Secretary of State, Department of State.

[FR Doc. 02-13701 Filed 5-30-02; 8:45 am]

BILLING CODE 4710-10-P